ENVIRONMENTAL PROTECTION AGENCY

[EPA-HQ-OPPT-2020-0078; FRL-9937-01-OMS]

Information Collection Request Submitted to OMB for Review and Approval; Comment Request; Toxic Chemical Release Reporting (Revision)

AGENCY: Environmental Protection Agency (EPA).

ACTION: Notice.

SUMMARY: The Environmental Protection Agency has submitted an information collection request (ICR), Toxic Chemical Release Reporting (EPA ICR Number 2613.04, OMB Control Number 2070-0212) to the Office of Management and Budget (OMB) for review and approval in accordance with the Paperwork Reduction Act. This is a request to revise an existing ICR that is currently approved through March 31, 2024. Public comments were previously requested via the Federal Register on November 15, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before July 15, 2022.

ADDRESSES: Submit your comments to EPA, referencing Docket ID No. EPA-HQ-OPPT-2021-0303, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Regulatory Support Branch (7101M), Office of Chemical Safety and Pollution Prevention, Environmental Protection Agency, 1200 Pennsylvania Ave. NW, Washington, DC 20460; telephone number: (202) 566-1204; email address: sleasman.katherine@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Pursuant to section 313 of the Emergency Planning and Community Right-to-Know Act (EPCRA), 42 U.S.C. 11001 et seq., certain facilities that manufacture, process, or otherwise use specified toxic chemicals in amounts above reporting threshold levels as provided in 40 CFR 372.25 must submit annually to EPA reporting forms to the Toxics Release Inventory (TRI). The revisions to this ICR covers the information collection activities associated with the submission of information to TRI pursuant to EPCRA section 313(b)(2), 42 U.S.C. 11023. Under EPCRA section 313(b)(2), the EPA Administrator has the authority to extend TRI reporting requirements to specific facilities that manufacture, process, or otherwise use a TRI-listed toxic chemical, but who are not currently covered by TRI reporting requirements as described at 40 CFR 372. The Administrator may determine a specific facility warrants TRI reporting on the basis of a chemical's toxicity, the facility's proximity to other facilities that release the chemical or to population centers, the facility's history of releases of the chemical, or other factors that the Administrator deems appropriate. This ICR revision includes discussion of EPA's discretionary authority under EPCRA section 313(b)(2) and outreach to potential stakeholders.

Form Numbers: 9350-1 and 9350-2.

Respondents/affected entities: The facility has 10 or more full-time employee equivalents; the facility is included in a NAICS Code listed at 40 CFR 372.23 or under E.O. 13148, Federal facilities regardless of their industry classification; and the facility manufactures (defined to include importing), processes, or otherwise uses any EPCRA section 313 (TRI) chemical in quantities greater than the established thresholds for the specific chemical in the course of a calendar year. EPA may also exercise its discretionary authority under EPCRA section 313(b)(2) to extend TRI reporting obligations to a facility.

Respondent's obligation to respond: Mandatory, 40 CFR 372 and EPCRA section 313.

Estimated number of respondents: 76,579 (total).

Frequency of response: Annual.

Total estimated burden: 3,616,827 hours (per year). Burden is defined at 5 CFR 1320.3(b).

Total estimated cost: $257,011,726 (per year), includes no annualized capital or operation & maintenance costs.

Changes in the estimates: There is an increase of 1700 hours in the total estimated respondent burden compared with the ICR currently approved by OMB. The additional hours are a result of an increase in 3 burden hours per facility in non-reporting burden. This increase also reflects the review of the notification and preparation of responses stakeholders may engage in upon receipt of the Agency's notification of its potential application of the discretionary authority under EPCRA section 313(b)(2) to specific facilities. This increase is categorized as a program change. Additionally, in December 2021, the EPA Administrator determined that 29 facilities warrant the extension of TRI reporting requirements under the authority in EPCRA section 313(b)(2) for specific chemicals; the updated burden estimates reflect potential reporting from these facilities.

Courtney Kerwin,
Director, Regulatory Support Division.

[FR Doc. 2022-12889 Filed 6-14-22; 8:45 am]

BILLING CODE P